DEPARTMENT OF COMMERCE

National Oceanic and Atmospheric Administration

RIN 0648-XD875

New England Fishery Management Council (NEFMC); Public Meeting

AGENCY: National Marine Fisheries Service (NMFS), National Oceanic and Atmospheric Administration (NOAA), Commerce.

ACTION: Notice of a public meeting.

SUMMARY: The New England Fishery Management Council (Council) will hold a three-day meeting on April 21-23, 2015 to consider actions affecting New England fisheries in the exclusive economic zone (EEZ).

DATES: The meeting will be held on Tuesday, April 21 through Thursday, April 23, 2015, starting at 9 a.m. on Tuesday, April 21, and 8 a.m. on Wednesday, April 22 and Thursday, April 23, 2015.

ADDRESSES: The meeting will be held at the Hilton Hotel, 20 Coogan Boulevard, Mystic, CT 06355-1900. The telephone number is (860) 572-0731, and fax is (860) 572-0328. For online information see www.hiltonmystic.com.

Council address: New England Fishery Management Council, 50 Water Street, Mill 2, Newburyport, MA 01950; telephone: (978) 465-0492.

FOR FURTHER INFORMATION CONTACT: Thomas A. Nies, Executive Director, New England Fishery Management Council; telephone: (978) 465-0492.

SUPPLEMENTARY INFORMATION:

Tuesday, April 21, 2015

The Council meeting will begin with introductions and a brief closed session during which the NEFMC will approve additional Scientific and Statistical Committee appointments for 2015-17. Brief reports will follow from the NEFMC Chairman and Executive Director, the NOAA Fisheries Regional Administrator, the Northeast Fisheries Science Center and Mid-Atlantic Fishery Management Council liaisons, NOAA General Counsel and NOAA Law Enforcement, and representatives of the Atlantic States Marine Fisheries Commission, U.S Coast Guard and the Northeast Regional Ocean Council.

NOAA General Counsel will then provide a presentation on the Magnuson-Stevens Act provisions on Council member financial disclosure and recusal requirements. During the Observer Committee's Report to follow the NEFMC will review and likely approve committee recommendations for additional industry-funded portside sampling and electronic monitoring options in the Atlantic herring fishery. The options are intended to be part of an omnibus amendment (vs. a framework adjustment) that would address industry-funded monitoring across all federally managed fisheries in the Northeast. A report from the Monkfish Committee report will include an update on the development of Framework Adjustment 9 to the Monkfish Fishery Management Plan (FMP), as well as Monkfish Plan Development Team analyses on use of less than 10-inch mesh stand-up gillnets while on a monkfish day-at-sea, and allowing a vessel to switch from a monkfish day to a monkfish research set-aside day while at sea. Just prior to a lunch break the Council will provide an opportunity for the public to provide brief comments on items that are relevant to Council business but otherwise not listed on the published agenda.

Following the break, there will be a presentation on a Northeast Fisheries Science Center report titled Performance of the Northeast Multispecies Groundfish Fishery, May 2013-April 2014. Following receipt of this information, the Council is expected to approve the Draft Environmental Impact Statement associated with Amendment 18 to the Northeast Multispecies Fishery FMP and identify preferred alternatives for the purpose of public review and comment. The amendment measures focus primarily on accumulation limits and the concentration of fishing effort in the inshore Gulf of Maine.

Wednesday, April 22, 2015

The second day of the meeting will begin with a NOAA Fisheries presentation regarding possible changes to National Standards 1, 3, and 7 and Council discussion of these issues. The NEFMC's Scientific and Statistical Committee will review its discussions about the proposals to change the National Standards, as well as NOAA's Draft Climate Science Strategy. Later in the morning, and as part of the Ecosystem Based Fisheries Management (EBFM) Committee's report, the Council will receive an updated status report on Northeast Continental Shelf Marine Ecosystem, review committee recommendations on a process to develop an EBFM policy, and review committee comments on NOAA's Draft Climate Science Strategy. The Habitat Committee will report prior to a lunch break. It seeks approval of final management measures to be included in Omnibus Essential Fish Habitat Amendment 2. Pending NOAA Fisheries approval, measures could affect all New England Council FMPs. This agenda item will be the subject of discussion for the remainder of the working day.

Thursday, April 23, 2015

The Council will continue consideration of the habitat agenda items listed above during this final day of the meeting. The meeting will adjourn after the consideration of any outstanding business.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: March 31, 2015.
Tracey L. Thompson,
Acting Deputy Director, Office of Sustainable Fisheries, National Marine Fisheries Service.

[FR Doc. 2015-07685 Filed 4-2-15; 8:45 am]

BILLING CODE 3510-22-P